DEPARTMENT OF HOMELAND SECURITY

U.S. Citizenship and Immigration Services

[CIS No. 2356-05]

RIN 1615-ZA24

Extension of the Designation of Somalia for Temporary Protected Status

AGENCY: U.S. Citizenship and Immigration Services, DHS.

ACTION: Notice.

SUMMARY: The designation of Somalia for Temporary Protected Status (TPS) will expire on September 17, 2005. This Notice extends TPS for Somalia for 12 months, until September 17, 2006, and sets forth procedures necessary for nationals of Somalia (or aliens having no nationality who last habitually resided in Somalia) with TPS to re-register and to apply for an extension of their employment authorization documents (EADs) for the additional 12-month period. Re-registration is limited to persons who registered under the initial designation (which was announced on September 16, 1991) or the re-designation (which was announced on September 4, 2001), and also timely re-registered under each subsequent extension of the designation. Certain nationals of Somalia (or aliens having no nationality who last habitually resided in Somalia) who previously have not applied for TPS may be eligible to apply under the late initial registration provisions.

EFFECTIVE DATES: The extension of the designation of TPS for Somalia is effective September 17, 2005, and will remain in effect until September 17, 2006. The 60-day re-registration period begins July 29, 2005 and will remain in effect until September 27, 2005.

FOR FURTHER INFORMATION CONTACT: Colleen Cook, Residence and Status Services, Office of Programs and Regulations Development, U.S. Citizenship and Immigration Services, Department of Homeland Security, 111 Massachusetts Avenue, NW, 3rd Floor, Washington, DC 20529, telephone (202) 514-4754.

SUPPLEMENTARY INFORMATION:

Abbreviations and Terms Used in This Document

Act—Immigration and Nationality Act

ASC—USCIS Application Support Center

DHS—Department of Homeland Security

DOS—Department of State

EAD—Employment Authorization Document

RIC—Resource Information Center

TPS—Temporary Protected Status

USCIS—U.S. Citizenship and Immigration Services

What Authority Does the Secretary of Homeland Security Have To Extend the Designation of TPS for Somalia?

Under section 244 of the Immigration and Nationality Act (Act), 8 U.S.C. 1254a, the Secretary of Homeland Security, after consultation with appropriate agencies of the Government, is authorized to designate a foreign state (or part thereof) for TPS. 8 U.S.C. 1254a(b)(1). The Secretary of Homeland Security may then grant TPS to eligible nationals of that foreign state (or aliens having no nationality who last habitually resided in that state). 8 U.S.C. 1254a(a)(1).

At least 60 days before the expiration of the TPS designation, or any extension thereof, section 244(b)(3)(A) of the Act requires the Secretary to review, after consultation with appropriate agencies of the Government, the conditions in a foreign state designated for TPS to determine whether the conditions for a TPS designation continue to be met and, if so, the length of an extension of the TPS designation. 8 U.S.C. 1254a(b)(3)(A). If the Secretary determines that the foreign state no longer meets the conditions for TPS designation, he shall terminate the designation, as provided in section 244(b)(3)(B) of the Act. 8 U.S.C. 1254a(b)(3)(B). Finally, if the Secretary does not determine that a foreign state (or part thereof) no longer meets the conditions for designation at least 60 days before the designation is due to end, section 244(b)(3)(C) of the Act provides for an automatic extension of TPS for an additional period of 6 months, or, in the Secretary's discretion, 12 or 18 months. 8 U.S.C. 1254a(b)(3)(C).

Why Did the Secretary of Homeland Security Decide To Extend the TPS Designation for Somalia?

On September 16, 1991, the Attorney General published a Notice in the Federal Register at 56 FR 46804 designating Somalia for TPS based on extraordinary and temporary conditions within the country. The Attorney General extended this TPS designation annually, determining in each instance that the conditions warranting such designation continued to be met. On September 4, 2001, the Attorney General extended and re-designated Somalia by publishing a Notice in the Federal Register at 66 FR 46288. Since that date, TPS for Somalia has been extended three times. See 67 FR 48950, 68 FR 43147, and 69 FR 47937. The most recent extension became effective on September 17, 2004, and is due to end on September 17, 2005.

Over the past year, DHS and DOS have continued to review conditions in Somalia. Based on this review, a 12-month extension is warranted because the extraordinary and temporary conditions that prompted designation persist. Further, USCIS has determined that it is not contrary to the national interest of the United States to permit aliens who are eligible for TPS based on the designation of Somalia to remain temporarily in the United States. 8 U.S.C. 1254a(b)(1)(C).

On May 5, 2005, DOS submitted a memorandum to USCIS recommending the extension of TPS for Somalia (DOS Recommendation). DOS noted that more than 10 years after the withdrawal of the United Nations' Operation in Somalia and 14 years since the fall of President Siad Barre, the country still lacks a central government. Id. A Transitional Federal Government (TFG), including a 275-member parliament, was formed in October 2004. Id. The December 31, 2004 deadline for the TFG to relocate from Nairobi, Kenya to Somalia has passed due to security concerns. Id. In March 2005, militias attacked demonstrators in favor of temporarily relocating the TFG to Baidoa rather than the capital, Mogadishu. Id. In May 2005, the USCIS Resource Information Center (RIC) reported that 15 people were killed and almost 40 wounded when a bomb exploded at a Mogadishu stadium where Somali Prime Minister Gedi was addressing a large crowd in early May (RIC Report). DOS also reports that the relocation of the TFG to Somalia potentially could exacerbate existing tensions and cause further conflict in Somalia. (DOS Recommendation). If the TFG is to establish a viable presence in Somalia, 55,000 militia members will need to be disarmed. (RIC Report).

The internal conflict has continued unabated and the overall human rights and humanitarian situation resulting from the lack of a central government remains largely unchanged. (RIC Report). In the last 15 years, two million people have been displaced from their homes and up to 500,000 have lost their lives. Id.

During the past year, fighting continued throughout Somalia, particularly in Mogadishu, Las Anod, Baidoa, and in the regions of Bari, Bay, Bakol, Gedo, Lower Shabelle, Middle Shebelle, and the Middle Juba. (DOS Recommendation). There were reports of clashes in April 2005 that resulted in 15,000 Somalis fleeing into Kenya. Id. Although Somaliland and Puntland are relatively more stable than the rest of the country, the territorial dispute between the two regions is ongoing. Id. DOS reports that the situation has stabilized slightly since the election of General Adde Muse as President of Puntland in January 2005. Id.

A four-year drought also has created a humanitarian emergency in the north and in parts of the south-central zone of Somalia. (RIC Report). Conditions have worsened in the drought-affected areas, evidenced by the high level of malnutrition in central Somalia where 19 to 22 percent of the population is malnourished. Id. Out of a total estimated population of 7 to 8 million, approximately 1.4 million people are in desperate need of assistance. Id. Delivery of humanitarian assistance is limited by the lack of road infrastructure and security concerns have rendered some affected areas inaccessible. Id. At the end of 2004, 350,000 Somalis were refugees and another 370,000 to 400,000 were internally displaced within Somalia. Id.

Based upon this review, the Secretary of Homeland Security, after consultation with appropriate Government agencies, finds that the conditions that prompted the designation of Somalia for TPS continue to be met. 8 U.S.C. 1254a(b)(3)(A). There are extraordinary and temporary conditions in Somalia that prevent aliens who are nationals of Somalia (or aliens having no nationality who last habitually resided in Somalia) from returning to Somalia in safety if these aliens meet the other statutory requirements for TPS. The Secretary also finds that permitting these aliens who meet the eligibility requirements of TPS to remain in the United States temporarily is not contrary to the national interest of the United States. 8 U.S.C. 1254a(b)(1)(C). On the basis of these findings, the Secretary of Homeland Security concludes that the designation of Somalia for TPS should be extended for an additional 12-month period. 8 U.S.C. 1254a(b)(3)(C).

If I Currently Have Benefits Through the TPS Designation of Somalia, Should I Re-register for TPS?

Yes. If you already have received benefits through the TPS designation of Somalia, your benefits will expire on September 17, 2005. Accordingly, individual TPS beneficiaries must comply with the re-registration requirements described below in order to maintain TPS benefits through September 17, 2006. TPS benefits include temporary protection against removal from the United States, as well as employment authorization, during the TPS designation period. 8 U.S.C. 1254a(a)(1).

If I Am Currently Registered for TPS, or Have a Pending Application for TPS, How Do I Re-register Under the Extension?

All persons previously granted TPS under the designation of Somalia who wish to maintain such status must re-register under the extension by filing the following: (1) Form I-821, Application for Temporary Protected Status, without fee; (2) Form I-765, Application for Employment Authorization (see the chart below to determine whether you must submit the one hundred and seventy-five dollar ($175) filing fee with Form I-765) or a fee waiver request; and (3) a biometric service fee of seventy dollars ($70) if you are 14 or older, or if you are under 14 and requesting an EAD. The biometric service fee will not be waived. 8 CFR 103.2(e)(4)(i), (iii). Unlike previous registration periods, TPS applicants need not submit photographs with the TPS application because a photograph will be taken when the alien appears at an Application Support Center (ASC) for collection of biometrics. Aliens who have previously registered for TPS but whose applications remain pending should follow these instructions if they wish to renew their TPS benefits.

An application submitted without the required fees will be returned to the applicant. Please note that Form I-821 has been revised and only the new form with Revision Date 11/5/04 will be accepted. Submissions of older versions of Form I-821 will be rejected. Submit the completed forms and applicable fee, if any, to the USCIS Chicago, IL Lockbox, as noted below, during the 60-day re-registration period that begins July 29, 2005 and ends September 27, 2005. An interim Employment Authorization Document (EAD) will not be issued unless the Form I-765, as part of the TPS registration package, has been pending with USCIS more than 90 days after all requested initial evidence has been received, including collection of the applicant's fingerprints at an ASC. See 8 CFR 103.2(b)(10)(ii) and 8 CFR 274a.13(d).

Where Should an Applicant Submit His or Her Application To Re-Register or Late Initial Register for TPS?

The Form I-821, Form I-765, fees, and all supporting documentation should be filed at the USCIS Chicago Lockbox at: U.S. Citizenship and Immigration Services, Attn: TPS Somalia, PO Box 87583, Chicago, IL 60680-0583,

Or, for non-United States Postal Service (USPS) deliveries: U.S. Citizenship and Immigration Services, Attn: TPS Somalia, 427 S. LaSalle—3rd Floor, Chicago, IL 60605.

Please note that these addresses are not the same as where you have submitted your forms during previous re-registration periods. Aliens re-registering or late initial registering for TPS under the designation of Somalia should not send their TPS forms and fees directly to a USCIS district office. Failure to follow these instructions will delay processing of your TPS re-registration application and may result in your application being returned to you.

Where Can I Obtain a Copy of the New Form I-821 Dated 11/5/04?

TPS forms are available from the toll-free USCIS Forms line, 1-800-870-3676, from your local USCIS district office, or from the USCIS Web site: http://www.uscis.gov.

Who Must Submit the $175 Filing Fee for the Form I-765?

Although all re-registrants must submit the Form I-765, only those re-registrants requesting an EAD, regardless of age, must submit the $175 filing fee or a properly documented fee waiver request pursuant to 8 CFR 244.20. Persons between the ages of 14 and 65 (inclusive) filing under the late initial registration provisions who are requesting an EAD also must submit the $175 fee or a fee waiver request pursuant to 8 CFR 244.20. Aliens who are submitting Form I-765 only for data-gathering purposes (as explained in the chart below) are not required to submit a $175 filing fee, nor are they required to submit a fee waiver request. Note that TPS re-registrants and applicants for late initial registration may wish to consider whether obtaining an EAD will be helpful to them for reasons other than verifying employment eligibility (for example, as a photo identity document and/or evidence of lawful presence in the United States in order to demonstrate eligibility for a driver's license in some states).

If . . . | Then . . .
You are re-registering for or renewing a TPS-related EAD, regardless of your age | You must complete and file the Form I-765, Application for Employment Authorization, with the $175 fee or a fee waiver request in accordance with 8 CFR 244.20.
You are not requesting an EAD | You must complete and file Form I-765 (for data-gathering purposes only) with no fee or fee waiver request.¹
You are filing under the late initial registration provisions, are requesting an EAD, and are between the ages of 14 and 65 (inclusive) | You must complete and file Form I-765 with the $175 fee or a fee waiver request.
You are applying for a TPS-related EAD under the late initial registration provisions and are under age 14 or over age 65 | You must complete and file Form I-765 (for data-gathering purposes only) with no fee.
¹ An applicant who does not want an EAD does not need to submit the $175 fee, but must complete and submit Form I-765 for data-gathering purposes.

Who Must Submit the $70 Biometric Service Fee?

All aliens 14 years of age and older who are re-registering for TPS, renewing temporary treatment benefits, or late initial registering must submit the $70 biometric service fee. In addition, any applicant under the age of 14 choosing to apply for an EAD must submit the $70 biometric service fee, as a photograph, signature, and fingerprint are required to produce the EAD. The biometric service fee will not be waived. 8 CFR 103.2(e)(4)(i), (iii).

Does TPS Lead to Lawful Permanent Residence?

No. TPS is a temporary benefit that does not lead to lawful permanent residence by itself or confer any other immigration status. 8 U.S.C. 1254a(e), (f)(1), and (h). When a country's TPS designation is terminated, TPS beneficiaries will have the same immigration status they held prior to TPS (unless that status has since expired or been terminated), or any other status they may have acquired while registered for TPS. Accordingly, if an alien held no lawful immigration status prior to being granted TPS and did not obtain any other status during the TPS period, he or she will have no lawful status upon the termination of the TPS designation. Once the Secretary determines that a TPS designation should be terminated, aliens who had TPS under that designation are expected to plan for their departure from the United States and may wish to apply for immigration benefits for which they may be eligible.

May I Apply for Another Immigration Benefit While Registered for TPS?

Yes. Registration for TPS does not prevent you from applying for another non-immigrant status, from filing for adjustment of status based on an immigrant petition, or from applying for any other immigration benefit or protection. 8 U.S.C. 1254a(a)(5). For the purposes of change of nonimmigrant status and adjustment of status, an alien is considered as being in, and maintaining, lawful status as a nonimmigrant during the period in which the alien is granted TPS. 8 U.S.C. 1254a(f)(4).

How Does an Application for TPS Affect My Application for Asylum or Other Immigration Benefits?

An application for TPS does not affect an application for asylum or any other immigration benefit. Denial of an application for asylum or any other immigration benefit does not affect an applicant's TPS eligibility, although the grounds for denying one form of relief may also be grounds for denying TPS. For example, a person who has been convicted of a particularly serious crime is not eligible for asylum or TPS. 8 U.S.C. 1158(b)(2)(A)(ii); 8 U.S.C. 1254a(c)(2)(B)(ii).

Does This Extension Allow Nationals of Somalia (or Aliens Having No Nationality Who Last Habitually Resided in Somalia) Who Entered the United States After September 4, 2001, To Apply for TPS?

No. This is a Notice of an extension of the TPS designation of Somalia, not a Notice re-designating Somalia for TPS. An extension of a TPS designation does not change the required dates of continuous residence and continuous physical presence in the United States. This extension does not expand TPS availability to those beyond the current TPS eligibility requirements for Somalia. To be eligible for benefits under this extension, nationals of Somalia (or aliens having no nationality who last habitually resided in Somalia) must have been continuously physically present and continuously resided in the United States since September 4, 2001.

Are Certain Aliens Ineligible for TPS?

Yes. There are certain criminal and terrorism-related inadmissibility grounds that render an alien ineligible for TPS. 8 U.S.C. 1254a(c)(2)(A)(iii). Further, aliens who have been convicted of any felony, or two or more misdemeanors, committed in the United States are ineligible for TPS under section 244(c)(2)(B) of the Act, 8 U.S.C. 1254a(c)(2)(B), as are aliens described in the bars to asylum in section 208(b)(2)(A) of the Act, 8 U.S.C. 1158(b)(2)(A).

What Is Late Initial Registration?

Some aliens who did not file for TPS during the initial registration period may be eligible for late initial registration under 8 U.S.C. 1254a(c)(1)(A) and (c)(2) and 8 CFR 244.2(f)(2) and (g). To apply for late initial registration an applicant must:

(1) Be a national of Somalia (or alien who has no nationality and who last habitually resided in Somalia);

(2) Have continuously resided in the United States since September 4, 2001;

(3) Have been continuously physically present in the United States since September 4, 2001; and

(4) Be admissible as an immigrant, except as provided under section 244(c)(2)(A) of the Act, and not ineligible under section 244(c)(2)(B) of the Act.

Additionally, the applicant must be able to demonstrate that during the registration period for the initial designation (from September 16, 1991 to September 16, 1992), or during the registration period for the re-designation (from September 4, 2001 to September 17, 2002), he or she:

(1) Was a nonimmigrant or had been granted voluntary departure or any relief from removal;

(2) Had an application for change of status, adjustment of status, asylum, voluntary departure, or any relief from removal or change of status pending or subject to further review or appeal;

(3) Was a parolee or had a pending request for reparole; or

(4) Is the spouse or child of an alien currently eligible to be a TPS registrant.

An applicant for late initial registration must file an application for late registration within 60 days of the expiration or termination of the above-described conditions. 8 CFR 244.2(g). All late initial registration applications for TPS pursuant to the TPS extension of Somalia should be submitted to the USCIS lockbox address listed above.

What Happens When This Extension of TPS Expires on September 17, 2006?

At least 60 days before this extension of TPS designation for Somalia expires on September 17, 2006, the Secretary of Homeland Security, after consultation with appropriate agencies of the Government, will review conditions in Somalia and determine whether the conditions for TPS designation continue to be met at that time, or whether the TPS designation should be terminated. 8 U.S.C. 1254a(b)(3). Notice of that determination, including the basis for the determination, will be published in the Federal Register.

Notice of Extension of Designation of TPS for Somalia

By the authority vested in the Secretary of Homeland Security under sections 244(b)(3)(A) and (b)(3)(C) of the Act, DHS has determined, after consultation with the appropriate Government agencies, that the conditions that prompted designation of Somalia for TPS continue to be met. Accordingly, DHS orders as follows:

(1) The designation of Somalia under section 244(b)(1)(C) of the Act is extended for an additional 12-month period from September 17, 2005, to September 17, 2006. 8 U.S.C. 1254a(b)(3)(C).

(2) There are approximately 324 nationals of Somalia (or aliens having no nationality who last habitually resided in Somalia) who have been granted TPS and who are eligible for re-registration.

(3) To maintain TPS, a national of Somalia (or an alien having no nationality who last habitually resided in Somalia) who was granted TPS during the initial designation period (or through late initial registration) and who re-registered during the subsequent extensions of this designation, must re-register for TPS during the 60-day re-registration period from July 29, 2005 until September 27, 2005.

(4) To re-register, the alien must file the following: (1) Form I-821, Application for Temporary Protected Status, without fee; (2) Form I-765, Application for Employment Authorization; and (3) a biometric services fee of $70 if the alien is age 14 or older, or if the alien is under age 14 and requesting an employment authorization document. Applications submitted without the required fees will be returned to the applicant. If the alien requests an EAD, he or she must submit $175 or a properly documented fee waiver request, pursuant to 8 CFR 244.20, with the Form I-765. An alien who does not request employment authorization must still file Form I-765 along with Form I-821, but he or she is not required to submit the fee or a fee waiver request for filing Form I-765. Failure to re-register without good cause will result in the withdrawal of TPS. 8 U.S.C. 1254a(c)(3)(C). Aliens who have previously registered for TPS but whose applications remain pending should follow these instructions to renew temporary treatment benefits. Some persons who had not previously applied for TPS may be eligible for late initial registration under 8 CFR 244.2.

(5) At least 60 days before this extension ends on September 17, 2006, the Secretary of Homeland Security, after consultation with appropriate agencies of the Government, will review the designation of Somalia for TPS and determine whether the conditions for designation continue to be met. 8 U.S.C. 1254a(b)(3)(A). Notice of that determination, including the basis for the determination, will be published in the Federal Register. Id.

(6) Information concerning the extension of designation of Somalia for TPS will be available at local USCIS offices upon publication of this Notice and on the USCIS Web site at http://www.uscis.gov.

Dated: July 15, 2005.
Michael Chertoff,
Secretary.

[FR Doc. 05-15001 Filed 7-26-05; 10:25 am]

BILLING CODE 4410-10-P